DEPARTMENT OF ENERGY

Federal Energy Regulatory Commission

Combined Notice of Filings

Take notice that the Commission has received the following Natural Gas Pipeline Rate and Refund Report filings:

Filings Instituting Proceedings

Docket Number: PR15-5-002.

Applicants: Washington Gas Light Company.

Description: Tariff filing per 284.123/.224: Washington Gas Light Company Offer of Settlement in PR15-5 and RP15-238 to be effective 7/1/2016; Filing Type: 790.

Filed Date: 8/1/16.

Accession Number: 201608015112.

Comments/Protests Due: 5 p.m. ET 8/22/16.

Docket Number: PR16-64-000.

Applicants: Lobo Pipeline Company LLC.

Description: Tariff filing per 284.123(e) + (g): Lobo Pipeline Company LLC Statement of Operating Conditions to be effective 11/1/2016; Filing Type: 1280.

Filed Date: 8/1/2016.

Accession Number: 201608015068; http://elibrary.ferc.gov/idmws/doc_info.asp?accession_num=20160630-5111; http://elibrary.ferc.gov/idmws/doc_info.asp?accession_num=20160415-5222.

Comments Due: 5 p.m. ET 8/22/16.

284.123(g) Protests Due: 5 p.m. ET 9/30/16.

Docket Number: PR16-65-000.

Applicants: ETC KR Pipeline LLC.

Description: Tariff filing per 284.123(g)/.224: ETC KR Pipeline LLC Cancellation of General Terms and Conditions to be effective 11/1/2016; Filing Type: 1290.

Filed Date: 8/1/2016.

Accession Number: 201608015152; http://elibrary.ferc.gov/idmws/doc_info.asp?accession_num=20160630-5111; http://elibrary.ferc.gov/idmws/doc_info.asp?accession_num=20160415-5222.

Comments Due: 5 p.m. ET 8/22/16.

284.123(g) Protests Due: 5 p.m. ET 9/30/16.

Docket Number: PR16-66-000.

Applicants: J-W Pipeline Company.

Description: Tariff filing per 284.123(e) + (g): Aethon United Pipeline LP—Notice of Name Change to be effective 7/1/2016; Filing Type: 1280.

Filed Date: 8/1/2016.

Accession Number: 201608015193; http://elibrary.ferc.gov/idmws/doc_info.asp?accession_num=20160630-5111; http://elibrary.ferc.gov/idmws/doc_info.asp?accession_num=20160415-5222.

Comments Due: 5 p.m. ET 8/22/16.

284.123(g) Protests Due: 5 p.m. ET 9/30/16.

Docket Number: PR16-67-000.

Applicants: Columbia Gas of Ohio, Inc.

Description: Tariff filing per 284.123(b)(1)/.: COH SOC to be effective 7/29/2016; Filing Type: 980.

Filed Date: 8/2/16.

Accession Number: 201608025103.

Comments/Protests Due: 5 p.m. ET 8/23/16.

Docket Numbers: RP16-1139-000.

Applicants: Boardwalk Storage Company, LLC.

Description: Filing Withdrawal: Withdraw Filing.

Filed Date: 8/3/16.

Accession Number: 20160803-5043.

Comments Due: 5 p.m. ET 8/15/16.

Docket Numbers: RP16-1159-000.

Applicants: Boardwalk Storage Company, LLC.

Description: § 4(d) Rate Filing: Cancellation of Second Revised Volume No. 1 (Tariff Reorg) to be effective 9/1/2016.

Filed Date: 8/3/16.

Accession Number: 20160803-5044.

Comments Due: 5 p.m. ET 8/15/16.

Docket Numbers: RP16-1160-000.

Applicants: SG Resources Mississippi, L.L.C.

Description: § 4(d) Rate Filing: SG Resources Mississippi, L.L.C.—Proposed Revisions to FERC Gas Tariff to be effective 9/3/2016.

Filed Date: 8/3/16.

Accession Number: 20160803-5087.

Comments Due: 5 p.m. ET 8/15/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2016.
Nathaniel J. Davis, Sr.,
Deputy Secretary.

[FR Doc. 2016-19369 Filed 8-12-16; 8:45 am]

BILLING CODE 6717-01-P